DEPARTMENT OF COMMERCE

Foreign-Trade Zones Board

[B-12-2016]

Foreign-Trade Zone (FTZ) 168—Dallas/Fort Worth, Texas; Notification of Proposed Production Activity; Gulfstream Aerospace Corporation (Passenger Jet Aircraft); Dallas, Texas

The Metroplex International Trade Development Corporation, grantee of FTZ 168, submitted a notification of proposed production activity to the FTZ Board on behalf of Gulfstream Aerospace Corporation (Gulfstream), located in Dallas, Texas. The notification conforming to the requirements of the regulations of the FTZ Board (15 CFR 400.22) was received on March 8, 2016.

The Gulfstream facility is located within Site 10 of FTZ 168. The facility is used for the production of passenger jet aircraft. Pursuant to 15 CFR 400.14(b), FTZ activity would be limited to the specific foreign-status components and specific finished products described in the submitted notification (as described below) and subsequently authorized by the FTZ Board.

Production under FTZ procedures could exempt Gulfstream from customs duty payments on the foreign status components used in export production. On its domestic sales, Gulfstream would be able to choose the duty rate during customs entry procedures that applies to passenger jet aircraft (free) for the foreign status inputs noted below. Customs duties also could possibly be deferred or reduced on foreign status production equipment.

The components and materials sourced from abroad include: Flight data recorders; wire harnesses; aircraft parts; fuselage panels; fuselage panel covers; aircraft assemblies; upholstery leather; upholstery suede; sheepskin seat covers; metal placards; power supplies; regulators; magnets; landing lights; headsets/headphones; and, antennas (duty rate ranges free to 4.9%).

Public comment is invited from interested parties. Submissions shall be addressed to the FTZ Board's Executive Secretary at the address below. The closing period for their receipt is April 27, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: March 9, 2016.
Andrew McGilvray,
Executive Secretary.

[FR Doc. 2016-06174 Filed 3-17-16; 8:45 am]

BILLING CODE 3510-DS-P